NATIONAL AERONAUTICS AND SPACE ADMINISTRATION

[Notice 00-044]

NASA Advisory Council, Life and Microgravity Sciences and Applications Advisory Committee Commercial Advisory Subcommittee; Meeting

AGENCY: National Aeronautics and Space Administration.

ACTION: Notice of meeting.

SUMMARY: In accordance with the Federal Advisory Committee Act, Pub. L. 92-463, as amended, the National Aeronautics and Space Administration announces a meeting of the NASA Advisory Council, Life and Microgravity Sciences and Applications Advisory Committee, Commercial Advisory Subcommittee.

DATES: Thursday, May 11, 2000, 9 a.m. to 12 noon.

ADDRESSES: National Aeronautics and Space Administration, Room MIC-5, 300 E Street SW, Washington, DC 20546.

FOR FURTHER INFORMATION CONTACT: Ms. Candace Livingston, Code UM, National Aeronautics and Space Administration, Washington, DC 20546; 202-358-0697.

SUPPLEMENTARY INFORMATION: The meeting will be closed to the public on Thursday, May 11, 2000, from 12 noon to 4 p.m. in accordance with 5 U.S.C. 552b(c)(4), for a briefing on Commercial Space Center activities which will contain proprietary information. The meeting will be open to the public on Thursday, May 11, 2000, from 9 a.m. to 12 noon. The agenda for the meeting is as follows:

Report on LMSAAC Activities

Report on SSUAS Activities

Status of Current Commercial Program Activities

Organizational Status

Discussion of Commercial Strategy

Briefing on Commercial Space Center Activities

Recommendations and Wrap-Up

It is imperative that the meeting be held on this date to accommodate the scheduling priorities of the key participants. Visitors will be requested to sign a visitors' register.

Dated: April 27, 2000.
Matthew M. Crouch,
Advisory Committee Management Officer, National Aeronautics and Space Administration.

[FR Doc. 00-11130 Filed 5-3-00; 8:45 am]

BILLING CODE 7510-01-P